DEPARTMENT OF COMMERCE

National Oceanic and Atmospheric Administration

50 CFR Part 648

[I.D. 100400F]

Fisheries of the Northeastern United States; Atlantic Sea Scallop Fishery

AGENCY: National Marine Fisheries Service (NMFS), National Oceanic and Atmospheric Administration (NOAA), Commerce.

ACTION: Notice of intent to prepare a Supplemental Environmental Impact Statement (SEIS); request for comments.

SUMMARY: The New England Fishery Management Council (Council) announces its intention to prepare Framework 14 to the Atlantic Sea Scallop Fishery Management Plan (FMP). The intent of this action is to adjust the limited access scallop days-at-sea (DAS) allocations for the next 2 fishing years (March 1, 2001, through February 28, 2003); create a restricted access program for the scallop Mid-Atlantic closed areas (Hudson Canyon South and Virginia Beach), scheduled to reopen on March 1, 2001; and to close additional areas to scallop fishing to protect concentrations of juvenile scallops, reduce fishing mortality, and increase yield per recruit. The Council, in coordination with NMFS, also announces its intent to prepare an SEIS for the Atlantic Sea Scallop FMP in accordance with the National Environmental Policy Act to analyze the impacts of management alternatives.

DATES: Written comments on the intent to prepare the SEIS must be received on or before 5 p.m., local time, November 13, 2000.

ADDRESSES: Written comments should be sent to Paul J. Howard, Executive Director, New England Fishery Management Council, 50 Water Street, Mill 2, Newburyport, MA 01950. Comments may also be sent via fax to (978) 465-0492. Comments will not be accepted if submitted via e-mail or Internet.

FOR FURTHER INFORMATION CONTACT: Paul J. Howard, Executive Director, New England Fishery Management Council, (978) 465-0492.

SUPPLEMENTARY INFORMATION:

Background

Amendment 4 to the Atlantic Sea Scallop FMP, implemented by a final rule published January 19, 1994 (59 FR 2757), established a limited access program and a schedule of annual DAS allocations for full-time, part-time, and occasional vessels with limited access permits. The primary management tool implemented under Amendment 4 to control fishing mortality was the annual DAS allocation.

Amendment 7 to the FMP, implemented by a final rule published March 29, 1999 (64 FR 14835), changed the overfishing definition and extended the DAS-reduction schedule through 2008 to achieve a 10-year biomass rebuilding objective. To comply with the new overfishing definition and implement the rebuilding schedule, Amendment 7 revised the DAS schedule beginning March 1, 1999. To allow time for industry adjustment to the new regulations, the initial annual DAS allocations in 1999 were 120 days for full-time vessels, 48 days for part-time vessels, and 10 days for occasional vessels. According to Amendment 7, the DAS allocations in 2000 would be reduced to 51 days for full-time vessels, 20 days for part-time vessels, and 4 days for occasional vessels, and would remain below these levels until 2007, when the biomass rebuilding targets were expected to be met. The SEIS for Amendment 7 indicated that the 2000 DAS allocations would have negative impacts on the economic viability of the vessels and the scallop fleet. Amendment 7 also modified the framework adjustment process to allow the Council to consider closing and reopening areas, and closed two areas in the Mid-Atlantic to protect small scallops that were prevalent there, to promote stock rebuilding.

Shortly after the implementation of Amendment 7, the Council began deliberations on a longer-term process of developing Amendment 10, which would implement an area-based management system for scallops. In connection with the development of Amendment 10, the Council and NMFS published a Notice of Intent (NOI) to prepare an SEIS (65 FR 6975, February 11, 2000). The NOI announced that the Council is considering, among other things, closing areas with high concentrations of small scallops and opening them later when the scallops reach a certain size. The Council believes that shifting fishing effort in this manner could promote rebuilding, improve yield, and reduce the economic impacts of the low DAS allocations.

While Amendment 10 was being developed, the Council, through Framework 11 to the Scallop FMP (64 FR 31144, June 10, 1999) began a short-term strategy to access Closed Area II (CA II) in order to allow fishing on dense concentrations of scallops without compromising multispecies rebuilding or habitat protection. Framework 11 implemented a 1999 seasonal Georges Bank Sea Scallop Exemption Area (Exemption Area) in and adjacent to CA II and included the following primary measures for vessels fishing in the Exemption Area: A possession limit of up to 10,000 lb (4,536.0 kg) of scallop meats per trip; a maximum of three trips for full and part-time vessels and a maximum of one trip for occasional vessels; an automatic minimum deduction of 10 DAS for each trip; a minimum mesh twine-top of 10 inches (25.40 cm); a total allowable catch (TAC) of yellowtail flounder of 387 metric tons (mt); and an increase in the regulated species possession limit from 300 lb (136.1 kg) to 500 lb (226.8 kg) per trip. In addition, Framework 11 implemented a minimum mesh twine-top of 8 inches (20.32 cm) for vessels fishing under a scallop DAS when fishing outside the Exemption Area.

This strategy occurred in the 1999 and 2000 fishing years. Based on an updated assessment from the 29th Northeast Regional Stock Assessment Workshop (September 1999) and the 1999 Stock Assessment and Fishery Evaluation (SAFE) Report, the Scallop Plan Development Team determined that increasing the Amendment 7 DAS allocations for each of three permit categories to the same amounts as in the 1999 fishing year would meet the 2000 fishing mortality rate (F) target. This was contingent upon scallops in multispecies CA I, CA II, and the Nantucket Lightship Closed Area (NLCA) remaining protected, or upon maintaining conservation neutrality, if scallopers were allowed access to these closed areas. Based on this information, Framework 12 to the FMP (65 FR 11478, March 3, 2000) adjusted the limited access scallop DAS allocations for the fishing year March 1, 2000, through February 28, 2001, to 120 days for full-time vessels, 48 days for part-time vessels, and 10 days for occasional vessels.

Framework 13 to the FMP (65 FR 37903, June 19, 2000) continued the short-term strategy by implementing the 2000 Sea Scallop Exemption Program (Exemption Program), creating Exemption Areas in portions of CA I, CA II, and NLCA, and by including the following management measures: A possession limit of up to 10,000 lb (4,356.0 kg) of scallop meats per trip; a maximum number of trips for each area; an automatic minimum deduction of 10 DAS for each trip; a minimum mesh twine-top of 10 inches (25.40 cm); a yellowtail flounder TAC of 725 mt for CA I and CA II combined, and 50 mt for the NLCA; and an increase in the regulated species possession limit from 300 lb (136.1 kg) to 1,000 lb (435.6 kg) per trip, among other measures. In addition, this action modified the scallop dredge gear stowage requirements and corrected and clarified the “end of the year DAS carry-over” provision for vessels participating in the limited access scallop fishery. The primary intent of this action was to provide a continuation and an expansion of a short-term strategy to allow scallop dredge vessels access to multispecies closed areas without compromising multispecies and sea scallop rebuilding or habitat protection.

The Council is once again considering development of management measures through Framework 14 to provide for effective conservation and management of sea scallops while Amendment 10 is being developed. This action proposes to adjust the limited access scallop DAS allocations for the next 2 fishing years (March 1, 2001, through February 28, 2003). Under this measure annual DAS would remain at 120 days for full-time vessels, 48 days for part-time vessels, and 10 days for occasional vessels. This action also proposes a restricted access program for the Mid-Atlantic scallop closed areas (Hudson Canyon South and Virginia Beach), which are currently scheduled to reopen to scallop fishing on March 1, 2000, with no restrictions. Proposed measures and provisions of this action program include: (1) all scallop limited access and open access vessels (dredge, trawl, and General Category vessels) would be allowed access; (2) a scallop TAC for each of the reopened areas; (3) an allowance of five trips per vessel; (4) a possession limit of 15,000 lb (6,804 kg) of meats per trip (400 lb (181.4 kg) of meats for the General Category vessels); (5) an automatic deduction of 10 DAS for each trip; (6) a season of April 1 through February 28, with the provision that the Administrator, Northeast Region, NMFS, may allow additional trips for those vessels that made a trip prior to September 1, 2001; (7) an emergency landing provision, whereby vessels would only be charged one DAS for each 1,500 lb (680 kg) of meats landed, provided the vessel has experienced an emergency condition that forces the vessel to come into port earlier than anticipated; (8) a minimum mesh twine-top of 10 inches (25 cm) for scallop dredge vessels; (9) a vessel monitoring system requirement, with double-polling for the duration of the access program; (10) a TAC set-aside to allow cooperative research; and (11) a TAC set-aside to provide for observer coverage. The Council also may propose additional closed areas to protect concentrations of small scallops. Options for the closed areas include areas in both the Mid-Atlantic and Georges Bank.

Because the Mid-Atlantic closed areas are scheduled to reopen on March 1, 2001, the Council is considering in Framework 14 a restricted access program to prevent a rush of effort into the closed areas, which could potentially diminish the benefits achieved by the closures, and to balance fishing effort between the closed and open areas of the scallop fishery.

Because Framework 14 is the third in a series of short-term measures adopted by the Council during the development of Amendment 10, the Council, in cooperation with NMFS, has determined that it may be necessary to prepare an SEIS to examine the cumulative effects and consequences of the short-term measures on the human environment. In preparing the SEIS, the Council and NMFS will take into account, in addition to comments received in response to this document, all comments that have already been submitted and all discussions that have occurred in Council meetings before the publication of this document.

Authority: 16 U.S.C. 1801 et seq.

Dated: October 5, 2000.
Bruce C. Morehead,
Acting Director, Office of Sustainable Fisheries, National Marine Fisheries Service.

[FR Doc. 00-26060 Filed 10-5-00; 3:52 pm]

BILLING CODE 3510-22-S